DEPARTMENT OF COMMERCE

International Trade Administration

[A-570-979]

Crystalline Silicon Photovoltaic Cells, Whether or Not Assembled Into Modules, From the People's Republic of China: Final Results of Antidumping Duty Administrative Review and Final Determination of No Shipments; 2014-2015

AGENCY: Enforcement and Compliance, International Trade Administration, Department of Commerce.

SUMMARY: On December 22, 2016, the Department of Commerce (the Department) published the preliminary results of the third administrative review of the antidumping duty (AD) order on crystalline silicon photovoltaic cells, whether or not assembled into modules (solar cells) from the People's Republic of China (PRC). The period of review (POR) is December 1, 2014, through November 30, 2015. The review covers two mandatory respondents: (1) Canadian Solar International Limited, which we have treated as a single entity with five affiliated companies identified below, and (2) the collapsed entity Trina Solar, consisting of Changzhou Trina Solar Energy Co., Ltd., and Trina Solar (Changzhou) Science and Technology Co., Ltd., which we have continued to treat as a single entity with four additional affiliated companies identified below. We received comments from interested parties on our Preliminary Results. Based on our analysis of the comments received, we made changes to the margin calculations for the Final Results of this administrative review. The final weighted-average dumping margins are listed below in the “Final Results of Review” section of this notice.

DATES: Effective June 27, 2017.

FOR FURTHER INFORMATION CONTACT: Krisha Hill and Jeff Pedersen, AD/CVD Operations, Office IV, Enforcement & Compliance, International Trade Administration, Department of Commerce, 1401 Constitution Avenue NW., Washington, DC 20230; telephone: (202) 482-4037 or (202) 482-2769, respectively.

SUPPLEMENTARY INFORMATION:

Background

On December 22, 2016, the Department published in the Federal Register the preliminary results of the 2014-2015 administrative review of the antidumping duty order on solar cells from the PRC.¹ For events subsequent to the Preliminary Results, see the Department's Issues and Decision Memorandum.² On March 30, 2017, in accordance with section 751(a)(3)(A) of the Tariff Act of 1930, as amended (the Act), the Department extended the deadline for issuing the final results by 60 days.³ The deadline for the final results is June 20, 2017.

¹ See Crystalline Silicon Photovoltaic Cells, Whether or Not Assembled Into Modules, From the People's Republic of China: Preliminary Results of Antidumping Duty Administrative Review and Preliminary Determination of No Shipments; 2014-2015, 81 FR 93888 (December 22, 2016) (Preliminary Results), and accompanying Preliminary Decision Memorandum (PDM).

² See Memorandum, “Issues and Decision Memorandum for the Final Results of the 2014-2015 Antidumping Duty Administrative Review of Crystalline Silicon Photovoltaic Cells, Whether or Not Assembled into Modules, From the People's Republic of China,” (Issues and Decision Memorandum), dated concurrently with this notice.

³ See Memorandum, “Crystalline Silicon Photovoltaic Cells, Whether or Not Assembled into Modules, from the People's Republic of China: Extension of Deadline for Final Results of Antidumping Duty Administrative Review,” dated March 30, 2017.

Scope of the Order

The merchandise covered by the order is crystalline silicon photovoltaic cells, and modules, laminates, and panels, consisting of crystalline silicon photovoltaic cells, whether or not partially or fully assembled into other products, including, but not limited to, modules, laminates, panels and building integrated materials.⁴ Merchandise covered by the order is classifiable under subheading 8501.61.0000, 8507.20.80, 8541.40.6020, 8541.40.6030, and 8501.31.8000 of the Harmonized Tariff Schedule of the United States (HTSUS). Although the HTSUS subheadings are provided for convenience and customs purposes, our written description of the scope of the order is dispositive.

⁴ For a complete description of the scope of the order, see Issues and Decision Memorandum.

Analysis of Comments Received

All issues raised in the case and rebuttal briefs filed by parties in this review are addressed in the Issues and Decision Memorandum, which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov and to all parties in the Central Records Unit, Room B8024 of the main Department of Commerce building. In addition, a complete version of the Issues and Decision Memorandum can be accessed directly on the Internet at http://enforcement.trade.gov/frn/. The paper copy and electronic version of the Issues and Decision Memorandum are identical in content.

Changes Since the Preliminary Results

Based on a review of the record and comments received from interested parties regarding our Preliminary Results, and for the reasons explained in the Issues and Decision Memorandum, we made revisions to our preliminary calculations of the weighted-average dumping margins for mandatory respondents, Canadian Solar ⁵ and Trina.6 7

⁵ In these final results of review, the Department has continued to treat the following six companies as a single entity: Canadian Solar International Limited/Canadian Solar Manufacturing (Changshu), Inc./Canadian Solar Manufacturing (Luoyang), Inc./CSI Cells Co., Ltd./CSI-GCL Solar Manufacturing (YanCheng) Co., Ltd./CSI Solar Power (China) Inc. (collectively, Canadian Solar). See Preliminary Results, 81 FR at 93888, 93889 and PDM at 6 7.

⁶ In these final results of review, the Department has continued to treat the following six companies as a single entity: Changzhou Trina Solar Energy Co., Ltd./Trina Solar (Changzhou) Science & Technology Co., Ltd./Yancheng Trina Solar Energy Technology Co., Ltd./Changzhou Trina Solar Yabang Energy Co., Ltd./Turpan Trina Solar Energy Co., Ltd./Hubei Trina Solar Energy Co., Ltd. (collectively, Trina). See Preliminary Results, 81 FR at 93888, 93889 and PDM at 6-7.

⁷ See Issues and Decision Memorandum at comments 4, 7, 8, 16, 17, 20, 21, 22, and 24.

Final Determination of No Shipments

In the Preliminary Results, we found that seven companies had no shipments during the POR.⁸ Consistent with the Department's assessment practice in NME cases, we completed the review with respect to the above-named companies. However, we have reexamined the record and determined that we made an error in the Preliminary Results by not recognizing that Shenzhen Glory Industries Co., Ltd. (Shenzhen Glory) timely filed a no-shipment certification.⁹ We have reviewed Shenzhen Glory's no shipment certification and have found that Shenzhen Glory had no shipments during this POR. In addition, we found that Hangzhou Sunny Energy Science & Technology Co., Ltd. (Sunny), a company we preliminarily determined had no shipments during the POR, had a reviewable sale/entry of subject merchandise during the POR. Therefore, for these Final Results, we find that a total of seven companies had no shipments during the POR.¹⁰ As noted in the “Assessment” section below, the Department will issue appropriate instructions with respect to these companies to CBP based on our Final Results.¹¹ In addition, these companies will maintain their rate from the most recent segment in which they participated.

⁸ See Preliminary Results, 81 FR at 93888, 93889.

⁹ See Shenzhen Glory's February 24, 2016 Notice of No Sales Letter.

¹⁰ Those companies are: BYD (Shangluo) Industrial Co., Ltd., Canadian Solar Inc., Dongguan Sunworth Solar Energy Co., Ltd., Jiangsu High Hope Int'l Group, Wuxi Suntech Power Co., Ltd/Luoyang Suntech Power Co., Ltd., Zhongli Talesun Solar Co. Ltd, and Shenzhen Glory. On January 6, 2017, the Department placed on the record certain factual information from U.S. Customs and Border Protection (CBP) regarding the no shipments claims and provided interested parties with an opportunity to comment on the information. See Department Letter re: Release of U.S. Customs and Border Protection Information Relating to No Shipment Claims Made in the 2014-2015 Administrative Review of Crystalline Silicon Photovoltaic Cells from the People's Republic of China, dated January 6, 2017. Wuxi Suntech Power Co., Ltd. commented on the information, arguing that none of the new information on the record contradicts the Department's preliminary decision regarding its no shipment claim. No other parties commented on the information. See Wuxi Suntech Power Co., Ltd.'s January 13, 2017 Comments on CBP Information.

¹¹ See Non-Market Economy Antidumping Proceedings: Assessment of Antidumping Duties, 76 FR 65694 (October 24, 2011) (Assessment of Antidumping Duties); see also the “Assessment” section of this notice, below.

Separate Rates

In the Preliminary Results, the Department determined that Canadian Solar, Trina, and 24 other companies/company groups demonstrated their eligibility for separate rates, but that Jiangsu Sunlink PV Technology Co., Ltd., Ningbo Hisheen Electrical Co., Ltd., and Shenzhen Glory had not demonstrated their entitlement to separate rates status because they did not file either a separate rate application or certification with the Department.¹² However, as noted above, for these Final Results, the Department has determined that Shenzhen Glory timely filed a no shipments claim and record information supports its claim. Additionally, as explained in the Issues and Decision Memorandum, the Department has determined that Sunny is eligible for separate rate status, but that Ningbo Qixin Solar Electrical Appliance Co., Ltd. (Ningbo Qixin) did not meet the requirements for obtaining a separate rate. Therefore, for these Final Results, the Department finds that Jiangsu Sunlink PV Technology Co., Ltd., Ningbo Hisheen Electrical Co., Ltd., and Ningbo Qixin are not eligible for separate rate status and thus, are part of the PRC-wide entity. The Department assigned a dumping margin to the separate rate companies that it did not individually examine, but which demonstrated their eligibility for a separate rate, based on the mandatory respondents' dumping margins.¹³

¹² Id.

¹³ See Memorandum, “Calculation of the Final Dumping Margin for Separate Rate Recipients,” dated concurrently with this notice.

Final Results of Review

We determine that the following weighted-average dumping margins exist for the POR:

Exporter | Weighted-average dumping margins (percent)
Canadian Solar International Limited/Canadian Solar Manufacturing (Changshu), Inc./Canadian Solar Manufacturing (Luoyang)Inc./CSI Cells Co., Ltd./CSI-GCL Solar Manufacturing (YanCheng) Co., Ltd./CSI Solar Power (China) Inc | 13.07
Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd | 4.66
Chint Solar (Zhejiang) Co., Ltd | 6.98
ERA Solar Co., Ltd | 6.98
ET Solar Energy Limited | 6.98
Hangzhou Sunny Energy Science & Technology Co., Ltd | 6.98
Hengdian Group DMEGC Magnetics Co., Ltd | 6.98
JA Solar Technology Yangzhou Co., Ltd | 6.98
Jiawei Solarchina (Shenzhen) Co., Ltd | 6.98
Jiawei Solarchina Co., Ltd | 6.98
JingAo Solar Co., Ltd | 6.98
Lightway Green New Energy Co., Ltd | 6.98
Ningbo ETDZ Holdings, Ltd | 6.98
Risen Energy Co., Ltd | 6.98
Shanghai BYD Co., Ltd | 6.98
Shanghai JA Solar Technology Co., Ltd | 6.98
Shenzhen Sungold Solar Co., Ltd | 6.98
Shenzhen Topray Solar Co., Ltd | 6.98
Star Power International Limited | 6.98
Systemes Versilis, Inc | 6.98
Taizhou BD Trade Co., Ltd | 6.98
tenKsolar (Shanghai) Co., Ltd | 6.98
Toenergy Technology Hangzhou Co., Ltd | 6.98
Wuxi Tianran Photovoltaic Co., Ltd | 6.98
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 6.98
Zhejiang Era Solar Technology Co., Ltd | 6.98
Zhejiang Sunflower Light Energy Science & Technology Limited Liability Company | 6.98

Because no party requested a review of the PRC-wide entity and the Department no longer considers the PRC-wide entity as an exporter conditionally subject to administrative reviews,¹⁴ we did not conduct a review of the PRC-wide entity. Thus, the weighted-average dumping margin for the PRC-wide entity (i.e., 238.95 percent) is not subject to change as a result of this review.¹⁵

¹⁴ See Antidumping Proceedings: Announcement of Change in Department Practice for Respondent Selection in Antidumping Duty Proceedings and Conditional Review of the Nonmarket Economy Entity in NME Antidumping Duty Proceedings, 78 FR 65963, 65969-70 (November 4, 2013).

¹⁵ See Crystalline Silicon Photovoltaic Cells, Whether or Not Assembled Into Modules, From the People's Republic of China: Final Results of Antidumping Duty Administrative Review and Final Determination of No Shipments; 2013-2014, 81 FR 39905 (June 20, 2016).

Assessment

The Department will determine, and CBP shall assess, antidumping duties on all appropriate entries covered by this review. The Department intends to issue assessment instructions to CBP 15 days after the publication date of these Final Results of review. In accordance with 19 CFR 351.212(b)(1), we are calculating importer- (or customer-)specific assessment rates for the merchandise subject to this review. For any individually examined respondent whose weighted-average dumping margin is above de minimis (i.e., 0.50 percent), the Department will calculate importer- (or customer)-specific assessment rates for merchandise subject to this review. Where the respondent reported reliable entered values, the Department calculated importer- (or customer)-specific ad valorem rates by aggregating the dumping margins calculated for all U.S. sales to the importer- (or customer) and dividing this amount by the total entered value of the sales to the importer- (or customer).¹⁶ Where the Department calculated an importer- (or customer)-specific weighted-average dumping margin by dividing the total amount of dumping for reviewed sales to the importer- (or customer) by the total sales quantity associated with those transactions, the Department will direct CBP to assess importer- (or customer)-specific assessment rates based on the resulting per-unit rates.¹⁷ Where an importer- (or customer)-specific ad valorem or per-unit rate is greater than de minimis, the Department will instruct CBP to collect the appropriate duties at the time of liquidation. Where either the respondent's weighted average dumping margin is zero or de minimis, or an importer (or customer)-specific ad valorem or per-unit rate is zero or de minimis, the Department will instruct CBP to liquidate appropriate entries without regard to antidumping duties.¹⁸

¹⁶ See 19 CFR 351.212(b)(1).

¹⁷ Id.

¹⁸ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), the Department will instruct CBP to liquidate such entries at the PRC-wide rate. Additionally, if the Department determines that an exporter under review had no shipments of the subject merchandise, any suspended entries that entered under that exporter's case number will be liquidated at the PRC-wide rate.¹⁹

¹⁹ See Non-Market Economy Antidumping Proceedings: Assessment of Antidumping Duties, 76 FR 65694 (October 24, 2011), for a full discussion of this practice.

Cash Deposit Requirements

The following cash deposit requirements will be effective upon publication of the Final Results of this administrative review for shipments of the subject merchandise from the PRC entered, or withdrawn from warehouse, for consumption on or after the publication date of this notice in the Federal Register, as provided by section 751(a)(2)(C) of the Act: (1) For the exporters listed above, the cash deposit rate will be the rate listed for each exporter in the table in the “Final Results of Review” section of this notice, except if the rate is zero or de minimis (i.e., less than 0.5 percent), then the cash deposit rate will be zero; (2) for previously investigated PRC and non-PRC exporters that received a separate rate in a prior segment of this proceeding, the cash deposit rate will continue to be the existing exporter-specific rate; (3) for all PRC exporters of subject merchandise that have not been found to be entitled to a separate rate, the cash deposit rate will be the rate previously established for the PRC-wide entity (i.e., 238.95 percent); and (4) for all non-PRC exporters of subject merchandise which have not received their own rate, the cash deposit rate will be the rate applicable to the PRC exporter that supplied that non-PRC exporter. These deposit requirements, when imposed, shall remain in effect until further notice.

Disclosure

We intend to disclose the calculations performed for these Final Results within five days of publication of this notice in the Federal Register in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of double antidumping duties.

Notification Regarding Administrative Protective Orders (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice of the Final Results of this antidumping duty administrative review is issued and published in accordance with sections 751(a)(1) and 777(i) of the Act and 19 CFR 351.213 and 19 CFR 351.221(b)(5).

Dated: June 20, 2017.
Ronald K. Lorentzen,
Acting Assistant Secretary for Enforcement and Compliance.

Appendix—Issues and Decision Memorandum

Summary

Background

Scope of the Order

Discussion of the Issues

Comment 1: Whether the Department Should Apply Partial AFA to Trina's Unreported Factors of Production for Purchased Solar Cells

Comment 2: Application of Partial AFA To Value Trina's Unreported FOPs

Comment 3: Whether the Department Should Apply Partial AFA to Canadian Solar's Unreported Factors of Production for Purchased Solar Cells

Comment 4: Application of Partial AFA To Value Canadian Solar's Unreported FOPs

Comment 5: Surrogate Value for Semi-Finished Polysilicon Ingots and Blocks

Comment 6: Data Source Used to Value Polysilicon and Mono & Multi Crystalline Wafers and Solar Cells

Comment 7: Surrogate Value for Scrap Cells and Modules

Comment 8: Surrogate Value for Silicon Scrap Offsets

Comment 9: Surrogate Value for Recycled Silicon Scrap

Comment 10: Surrogate Value for Aluminum Frames

Comment 11: Surrogate Value for Backsheet

Comment 12: Surrogate Value for Module Glass

Comment 13: Surrogate Value for Nitrogen

Comment 14: Surrogate Value for Canadian Solar's Silver Paste

Comment 15: Surrogate Value for Quartz Crucibles

Comment 16: Selection of Financial Statements

Comment 17: Trina's Ocean Freight

Comment 18: Differential Pricing

Comment 19: Calculation of Warranty Expenses

Comment 20: Insurance Costs Related to Warranties

Comment 21: Treatment of Overhead Items

Comment 22: Debt Restructuring Income

Comment 23: Exclusion of Import Data with Values but Quantities of Zero

Comment 24: Clerical Errors

Comment 25: Separate Rate Status for Shenzhen Glory Industries Co., Ltd.

Comment 26: Separate Rate Status for Hangzhou Sunny Energy Science & Technology Co., Ltd.

Comment 27: Separate Rate Status for Ningbo Qixin Solar Electrical Appliance Co., Ltd.

Comment 28: Toenergy Technology Hangzhou Co., Ltd.'s Liquidation Instructions

[FR Doc. 2017-13426 Filed 6-26-17; 8:45 am]

BILLING CODE 3510-DS-P